DEPARTMENT OF THE INTERIOR

National Park Service

[NPS-WASO-NAGPRA-NPS0029881; PPWOCRADN0-PCU00RP14.R50000]

Notice of Inventory Completion: Connecticut State Museum of Natural History, University of Connecticut, Storrs, CT

AGENCY: National Park Service, Interior.

ACTION: Notice.

SUMMARY: The Connecticut State Museum of Natural History, University of Connecticut has completed an inventory of human remains, in consultation with the appropriate Indian Tribes or Native Hawaiian organizations, and has determined that there is a cultural affiliation between the human remains and present-day Indian Tribes or Native Hawaiian organizations. Lineal descendants or representatives of any Indian tribe or Native Hawaiian organization not identified in this notice that wish to request transfer of control of these human remains should submit a written request to the Connecticut State Museum of Natural History, University of Connecticut. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Connecticut State Museum of Natural History, University of Connecticut at the address in this notice by April 27, 2020.

ADDRESSES: Dr. Jacqueline Veninger-Robert, NAGPRA Coordinator, University of Connecticut, 354 Mansfield Road, Unit 1176, Storrs, CT 06269-1176, telephone (860) 486-6953, email jacqueline.veninger@uconn.edu.

SUPPLEMENTARY INFORMATION: Notice is here given in accordance with the Native American Graves Protection and Repatriation Act (NAGPRA), 25 U.S.C. 3003, of the completion of an inventory of human remains under the control of the Connecticut State Museum of Natural History, University of Connecticut, Storrs, CT. The human remains were removed from ID.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Connecticut State Museum of Natural History, University of Connecticut professional staff in consultation with representatives of the Coeur D'Alene Tribe (previously listed as the Coeur D'Alene Tribe of the Coeur D'Alene Reservation, Idaho); Confederated Salish and Kootenai Tribes of the Flathead Reservation; Confederated Tribes of the Warm Springs Reservation of Oregon; Eastern Shoshone Tribe of the Wind River Reservation, Wyoming (previously listed as the Shoshone Tribe of the Wind River Reservation, Wyoming); Fort Belknap Indian Community of the Fort Belknap Reservation of Montana; Kalispel Indian Community of the Kalispel Reservation; Kootenai Tribe of Idaho; Nez Perce Tribe (previously listed as the Nez Perce Tribe of Idaho); Northwestern Band of the Shoshone Nation (previously listed as Northwestern Band of Shoshoni Nation and the Northwestern Band of Shoshoni Nation of Utah (Washakie)); Shoshone-Bannock Tribes of the Fort Hall Reservation; and the Shoshone-Paiute Tribes of the Duck Valley Reservation, Nevada (hereafter referred to as “The Consulted Tribes”).

History and Description of the Remains

At an unknown date, human remains representing, at minimum, one individual were removed from an unknown site in Idaho. This individual, represented by a cranium and mandible, was in the possession of William S. Laughlin, a professor of physical anthropology at the University of Connecticut (1969-1999). Laughlin died in 2001. In 2014, his family donated the human remains to the Connecticut State Museum of Natural History, University of Connecticut. When or how this individual came into Laughlin's possession is not known. The words “Idaho `86” written on the curation storage box and artifact tag are the only record accompanying the human remains.

Prior to joining the University of Connecticut, Laughlin served as faculty at the University of Oregon (1949-1955) and the University of Wisconsin (1955-1969). Predominantly known for his work in the Aleutian Islands, AK, Laughlin also undertook excavations in Oregon.

In 2015, skeletal analysis of the human remains was done by Douglas Owsley. Owsley's analysis established that the individual is a male, 30-40 years old, of Native American ancestry. No known individuals were identified. No associated funerary objects are present.

Historically, the Nez Perce Tribe occupied a large area of what is now Idaho. While the provenience of the human remains is unknown, more likely than not they originate from the traditional territory of the Nez Perce. The Tribe's ancestral territory, which includes the land recognized by a final judgment of the Indian Claims Commission (ICC) as the Tribe's aboriginal land and the Tribe's 1855 reservation boundary, covers most of north-central Idaho, southeastern Washington and northeastern Oregon. Consequently, based on geographic location, historical documents, anthropological, and biological data, this individual is likely ancestral to the Nez Perce Tribe.

Determinations Made by the Connecticut State Museum of Natural History, University of Connecticut

Officials of the Connecticut State Museum of Natural History, University of Connecticut have determined that:

• Pursuant to 25 U.S.C. 3001(9), the human remains described in this notice represent the physical remains of one individual of Native American ancestry.

• Pursuant to 25 U.S.C. 3001(2), there is a relationship of shared group identity that can be reasonably traced between the Native American human remains and the Nez Perce Tribe (previously listed as the Nez Perce Tribe of Idaho).

Additional Requestors and Disposition

Lineal descendants or representatives of any Indian Tribe or Native Hawaiian organization not identified in this notice that wish to request transfer of control of these human remains should submit a written request with information in support of the request to Dr. Jacqueline Veninger-Robert, NAGPRA Coordinator, University of Connecticut, 354 Mansfield Road, Unit 1176, Storrs, CT 06269-1176, telephone (860) 486-6953, email jacqueline.veninger@uconn.edu, by April 27, 2020. After that date, if no additional requestors have come forward, transfer of control of the human remains to the Nez Perce Tribe (previously listed as the Nez Perce Tribe of Idaho) may proceed.

The Connecticut State Museum of Natural History, University of Connecticut is responsible for notifying The Consulted Tribes that this notice has been published.

Dated: February 19, 2020.
Melanie O'Brien,
Manager, National NAGPRA Program.

[FR Doc. 2020-06434 Filed 3-26-20; 8:45 am]

BILLING CODE 4312-52-P